Title 3—

The President

Proclamation 7753 of January 16, 2004

Religious Freedom Day, 2004

By the President of the United States of America

A Proclamation

America is a land of many faiths, and the right to religious freedom is a foundation of our Nation. On Religious Freedom Day, Americans acknowledge the centrality of their faith and reaffirm that the great strength of our country is the heart and soul of our citizens.

Religious Freedom Day celebrates the passage of the Virginia Statute for Religious Freedom on January 16, 1786. Thomas Jefferson, drafter of the legislation, considered it one of his three greatest accomplishments, along with writing the Declaration of Independence and founding the University of Virginia. Recognizing the importance of faith to our people, our Founding Fathers guaranteed religious freedom in the Constitution.

Protecting our religious freedom requires the vigilance of the American people and of government at all levels. Within my Administration, the Department of Justice is acting to protect religious freedom, including prosecuting those who attack people or places of worship because of religious affiliation. The Department of Education has issued new guidelines that allow students to engage in constitutionally protected religious activity in public schools. These guidelines protect, for example, students' rights to say a prayer before meals in the cafeteria, to gather with other students before school to pray, and to engage in other expressions of personal faith.

Through my Faith-Based and Community Initiative, my Administration continues to encourage the essential work of faith-based and community organizations. Governments can and should support effective social services, including those provided by religious people and organizations. When government gives that support, it is important that faith-based institutions not be forced to change their religious character. In December 2002, I signed an Executive Order to end discrimination against faith-based organizations in the Federal grants process. In September 2003, in implementing this order, my Administration eliminated many of the barriers that have kept faith-based charities from partnering with the Federal Government to help Americans in need. Six Federal agencies have proposed or finalized new regulations to ensure that no organization or beneficiary will be discriminated against in a Federally funded social service program on the basis of religion.

NOW, THEREFORE, I, GEORGE W. BUSH, President of the United States of America, by virtue of the authority vested in me by the Constitution and laws of the United States, do hereby proclaim January 16, 2004, as Religious Freedom Day. I urge all Americans to reflect on the blessings of our religious freedom and to observe this day through appropriate events and activities in homes, schools, and places of worship.

IN WITNESS WHEREOF, I have hereunto set my hand this sixteenth day of January, in the year of our Lord two thousand four, and of the Independence of the United States of America the two hundred and twenty-eighth.

B

[FR Doc. 04-1426

Filed 1-20-04; 10:57 am]

Billing code 3195-01-P